DEPARTMENT OF DEFENSE

Department of the Army, Corps of Engineers

Intent To Prepare a Supplemental Environmental Impact Statement for the Indianapolis, White River (North), IN, Flood Damage Reduction Project

AGENCY: Department of the Army, U.S. Army Corps of Engineers, DoD.

ACTION: Notice of intent.

SUMMARY: Pursuant to the National Environmental Policy Act (NEPA), the U.S. Army Corps of Engineers (Corps), Louisville District will prepare a Supplemental Environmental Impact Statement (SEIS) to disclose potential impacts to the natural, physical, and human environment resulting from implementation of alternatives formulated to address reliability risks associated with Indianapolis, White River (North), IN, Flood Damage Reduction Project. The currently authorized and partially completed project does not meet current performance standards nor does it provide the level of protection for which the project was authorized. A full array of alternatives will be formulated to meet the purpose and need of this study. After full consideration of all alternatives, the best plan will be selected to achieve acceptable risk levels.

FOR FURTHER INFORMATION CONTACT: Address all written comments and suggestions concerning completion of this SEIS for the already partially constructed flood reduction project to Michael Turner, CELRL-PM-P-E, U.S. Army Corps of Engineers, Huntington District, P.O. Box 59, Louisville, KY 40201-0059. Telephone: 502-315-6900. E-mail: michael.turner@usace.army.mil. Requests to be placed on the mailing list should also be sent to this address.

SUPPLEMENTARY INFORMATION: The U.S. Army Corps of Engineers, Louisville District (Corps), under authority of the Flood Control Act (FCA) of 1936 as amended by the FCA of 1948, completed a General Reevaluation (i.e. Feasibility) Report (GRR) and Environmental Impact Statement (EIS) in 1996, entitled Indianapolis, White River (North) Flood Damage Reduction Project for implementation of flood damage reduction measures in northern Indianapolis (Marion County), Indiana.

In February, 2011, the Corps released an Environmental Assessment (EA) addressing completion of Section 3B and environmental mitigation. The EA addressed one alignment along the White River and the canal. As a result of extensive public interest and comments made regarding the proposed alignment, a decision has been made to prepare a supplement to the 1996 EIS for the completion of the flood reduction project. This SEIS will address four alternatives for Section 3B: (1) The alignment as identified in the EA or along Westfield Boulevard and the Indianapolis Water Canal, (2) a modification moving the gate structure on the canal downstream approximately 600 ft, (3) a levee protecting the Town of Rocky Ripple, and (4) the no action alternative, i.e., do not complete Section 3B. The SEIS will also discuss possible changes in the already completed sections of the project related to requirements implemented since Hurricane Katrina. Specifically, three alternatives will be evaluated: (1) Clearing of all woody vegetation 20 ft on each side of the toe of the existing levee, (2) a variance requiring clearing of all woody vegetation 20 ft horizontally from the crown of the completed sections, and (3) no action, i.e., no additional clearing. The SEIS will also identify any environmental mitigation requirements that may be needed as a result of implementation of any of the alternatives considered. The SEIS will concentrate on impacts related to the identified alternatives, especially aesthetics, communities, economics, biological and cultural resources, public safety, and water supply.

Public Participation: The Corps received many comments from the public and elected officials in response to the EA. These concerns are reflected in the preceding two paragraphs. Should there be any additional resources and/or impacts that the Corps should address, the Louisville District seeks input from interested agencies, organizations, and the general public concerning the content, issues and impacts to be addressed in the SEIS. As the Corps will participate in at least one public meeting held by local agencies and/or elected officials in the coming month or two and as extensive public comment has already been received in response to the EA, the Louisville District does not intend to hold a separate public scoping meeting regarding the content of the draft SEIS.

Public comments are welcomed anytime throughout the NEPA process. Opportunities for public participation and/or comment will include as a minimum two review periods for the draft and final SEIS lasting a minimum of 45 and 30 days respectively. Comments may be made anytime during the NEPA process via mail, telephone or e-mail. Interested parties should submit contact information to be included on the mailing list for public distribution of any meeting announcements and documents, e.g., the draft and final SEIS.

Schedule: The Draft SEIS is scheduled to be released for public review and comment in June 2011.

Brenda S. Bowen,
Army Federal Register Liaison Officer.

[FR Doc. 2011-11347 Filed 5-9-11; 8:45 am]

BILLING CODE 3720-58-P